DEPARTMENT OF THE INTERIOR

Bureau of Land Management

[WO-350-1430-PF-24 1A]

Extension of Approved Information Collection, OMB Control Number 1004-0009

AGENCY: Bureau of Land Management, Interior.

ACTION: Notice and request for comments.

SUMMARY: In accordance with the Paperwork Reduction Act of 1995, the Bureau of Land Management (BLM) is requesting the Office of Management and Budget (OMB) to extend an existing approval to collect certain information from applicants who wish to acquire a Land Use Authorization (From 2920-1) on public lands under the Federal Land Policy and Management Act (FLPMA) of 1976. The regulations at 43 CFR part 2920 provide for non-Federal use of bureau administered land via lease or permit. Uses include agriculture, trade, or manufacturing concerns and business uses such as outdoor recreation concession. BLM will determine the validity of uses proposed by private individuals and other qualified proponents from information provided on the Land Use Application and Permit Form.

DATES: You must submit your comments to BLM at the appropriate address below on or before April 7, 2003. BLM will not necessarily consider any comments received after the above date.

ADDRESSES: You may mail comments to: Bureau of Land Management (WO-630), Eastern States Office, 7450 Boston Blvd., Springfield, Virginia 22153.

You may send comments via Internet to: WOComment@blm.gov. Please include “ATTN: 1004-0009” and your name and return address in your Internet message.

You may deliver comments to the Bureau of Land Management, Administrative Record, Room 401, 1620 L Street, NW., Washington, DC.

All comments will be available for public review at the L Street address during regular business hours (7:45 a.m. to 4:15 p.m.), Monday through Friday.

FOR FURTHER INFORMATION CONTACT: You may contact Alzata L. Ransom, Realty Use Group, on (202) 452-7772 (Commercial or FTS). Persons who use a telecommunications device for the deaf (TDD) may call the Federal Information Relay Service (FIRS) at 1-800-877-8330, 24 hours a day, seven days a week, to contact Ms. Ransom.

SUPPLEMENTARY INFORMATION: 5 CFR 1320.12(a) requires BLM to provide 60- day notice in the Federal Register concerning a collection of information contained in regulations found in 43 CFR 2920 to solicit comments on:

(a) Whether the proposed collection of information is necessary for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including through the use of appropriate automated, electronic, mechanical, or other technological collection techniques or other forms of information technology.

The FLPMA of 1976 (43 U.S.C. 1732, 1740), provides for issuing land use authorizations which may include leases, permits, or easements to eligible proponents. The BLM implements the provisions of this requirement under 43 CFR 2922.2-1 which require submitting the “Land Use Application and Permit,” Form 2920-1. BLM uses the information collected on the application to:

(1) Identify the proposed land use and activities;

(2) Describe all facilities for which authorization is sought;

(3) Identify the location; and

(4) Determine a schedule for construction and to identify access requirements.

Since the information collected is unique to each application, no other suitable means of information collection is identified which could gather the information at a lesser burden. If the applicant fails to provide the required information, BLM must reject the application.

Based on our experience administering the activities described above, we estimate the public reporting burden of each provision for the information collection. We estimate the number of responses per year is 641 and a total annual burden of 3,140 hours. The table below summaries our estimates:

Requirement | Hours per response | No. of respondents | Burden hours
Permits | 1 | 619 | 619
Leases | 120 | 21 | 2,520
Easements | 1 | 1 | 1
Totals |  | 641 | 3,140

BLM will summarize all responses to this notice and include them in the request for OMB approval. All comments will become a matter of public record.

Dated: January 31, 2003.
Michael H. Schwartz,
Bureau of Land Management, Information Collection Clearance Officer.

[FR Doc. 03-2689 Filed 2-4-03; 8:45 am]

BILLING CODE 4310-84-M